DEPARTMENT OF HEALTH AND HUMAN SERVICES

Centers for Disease Control and Prevention

[RFA AA169]

Building for Local Organizations in the Republic of South Africa and the Kingdoms of Lesotho and Swaziland; Notice of Availability of Funds—Amendment

A notice announcing the availability of Fiscal Year (FY) 2005 funds for a cooperative agreement for Building for Local Organizations in the Republic of South Africa and the Kingdoms of Lesotho and Swaziland, was published in the Federal Register, August 12, 2005, Volume 70, Number 155, pages 47209-47214.

This notice is amended as follows:

Page 47210, Approximate Total Funding: delete $500,000, and replace with $5,000,000. Page 47210, Approximate Average Award, delete $100,000, and replace with $500,000-$1,000,000. Page 47210, Ceiling of Award Range, delete $100,000, and replace with $1,000,000.

Dated: August 23, 2005.
William P. Nichols,
Director, Procurement and Grants Office, Centers for Disease Control and Prevention, U.S. Department of Health and Human Services.

[FR Doc. 05-17177 Filed 8-29-05; 8:45 am]

BILLING CODE 4163-18-U